Title 3—

The President

Proclamation 7279 of March 1, 2000

Irish-American Heritage Month, 2000

By the President of the United States of America

A Proclamation

More than two centuries ago, our founders envisioned a new Nation, a land free from tyranny and filled with opportunity, prosperity, and liberty for all. Many Irish people, faced with severe hardship in their homeland, embraced the dream of a more promising future and left behind Ireland's shores, their families, and their friends for a new beginning in America. Each year during the month of March, we celebrate these courageous men and women of Ireland and remember with pride their many contributions to our Nation.

With strength, courage, wit, and creativity, Irish Americans have flourished in our diverse Nation of immigrants. Writers such as Flannery O'Connor and Eugene O'Neill have transformed our literature; entrepreneurs like Henry Ford helped revolutionize American industry; performers such as Gregory Peck and Helen Hayes have enriched the arts; patriots such as Audie Murphy, our most decorated soldier of World War II, redefined the meaning of courage; and social reformers such as suffragist Leonora Barry and labor organizer Mary Kenney O'Sullivan fought for the rights of others. Generations of Irish Americans have worked alongside their fellow Americans to build a more perfect Union, and America is a stronger Nation because of them.

During his visit to Ireland in 1963, President Kennedy reminded us that “our two nations, divided by distance, have been united by history.” Today, people on both sides of the Atlantic are united not only by history, but also once again by a dream of a better way of life. In the spring of 1998, the people of Ireland and Northern Ireland sought to make that dream a reality at home when they voted overwhelmingly in support of the Good Friday Accord. America remains committed to the Irish people as they continue working to forge a brighter future in their own land. The road ahead is long, but the promise of peace is still within reach, and its rewards are great. This month, as we celebrate Saint Patrick's Day and our shared heritage with Ireland, we remember as well our common love of liberty, commitment to progress, and quest for lasting peace, and we look toward a future as proud as our past.

NOW, THEREFORE, I, WILLIAM J. CLINTON, President of the United States of America, by virtue of the authority vested in me by the Constitution and laws of the United States, do hereby proclaim March 2000 as Irish-American Heritage Month. I call upon all the people of the United States to observe this month with appropriate ceremonies, programs, and activities.

IN WITNESS WHEREOF, I have hereunto set my hand this first day of March, in the year of our Lord two thousand, and of the Independence of the United States of America the two hundred and twenty-fourth.

[FR Doc. 00-5456

Filed 3-2-00; 11:01 am]

Billing code 3195-01-P